FEDERAL COMMUNICATIONS COMMISSION

[WC Docket No. 02-60; DA 02-2551]

New Universal Service Deadline for Completing Funding Year 2001 Rural Healthcare Application Process

AGENCY: Federal Communications Commission.

ACTION: Notice.

SUMMARY: This document announces the new deadline for completing Rural Healthcare Applications for filing the FCC Form 466/468 packet, for those rural healthcare providers seeking discounts for Funding Year 2001 under the rural healthcare universal service support mechanism.

DATES: Filing deadline is October 11, 2002.

FOR FURTHER INFORMATION CONTACT: Peter Trachtenberg, Attorney, Telecommunications Access Policy Division, Wireline Competition Bureau, (202) 418-7400, TTY: (202) 418-0484.

SUPPLEMENTARY INFORMATION: October 11, 2002, is the final deadline for filing the FCC Form 466/468 packet, for those rural healthcare providers seeking discounts for Funding Year 2001 under the rural healthcare universal service support mechanism. The Form 466/468 packet informs the Rural Healthcare Division (RHCD) of the Universal Service Administrative Company that the health care provider has entered into an agreement with a telecommunications carrier for a service believed eligible for universal service support. Those entities that have applied for support for Funding Year 2001 (July 1, 2001—June 30, 2002) must have their completed packet postmarked by October 11, 2002.

The completed FCC Form 466/468 packet must include the following:

(1) FCC Form 466 (Services Ordered and Certification Form), completed by the health care provider;

(2) FCC Form 468 (Telecommunications Service Providers Support Form), completed by the telecommunications carrier;

(3) contract document or tariff designation, provided by either the health care provider or telecommunications carrier, and,

(4) if the health care provider is seeking support based on an urban/rural rate comparison, documentation must be included to show the rate for the selected service(s) in the nearest city of 50,000 or more within the state.

The forms and accompanying instructions may be obtained at the RHCD Web site <http://www.rhc.universalservice.org/forms> (they are called Funding Year 4 forms, because Funding Year 2001 was the fourth year of the program). Parties with questions or in need of assistance with the filing of their applications should contact RHCD's Customer Service Support Center at 1-800-229-5476.

Federal Communications Commission.
Mark G. Seifert,
Deputy Division Chief, Telecommunications Access Policy Division.

[FR Doc. 02-26270 Filed 10-15-02; 8:45 am]

BILLING CODE 6712-01-P